FEDERAL DEPOSIT INSURANCE CORPORATION

Establishment of the FDIC Advisory Committee on Economic Inclusion

AGENCY: Federal Deposit Insurance Corporation (FDIC).

ACTION: Notice.

SUMMARY: The Chairman of the Federal Deposit Insurance Corporation has determined to establish the FDIC Advisory Committee on Economic Inclusion (“the Committee”). The Committee will provide advice and recommendations on initiatives to expand access to banking services by underserved populations. The Committee will review various issues that may include, but not be limited to, basic retail financial services such as check cashing, money orders, remittances, stored value cards, short-term loans, savings accounts, and other services to promote asset accumulation and financial stability. The Chairman certifies that the establishment of this advisory committee is in the public interest in connection with the performance of duties imposed on the FDIC by law.

FOR FURTHER INFORMATION CONTACT: Robert E. Feldman, Executive Secretary, FDIC, 550 17th Street, NW., Washington, DC 20429; telephone (202) 898-7043.

SUPPLEMENTARY INFORMATION: In accordance with the requirements of the Federal Advisory Committee Act (“FACA”) 5 U.S.C. App. 2, notice is hereby given that the Chairman of the FDIC intends to establish the FDIC Advisory Committee on Economic Inclusion (“the Committee”). After consultation with the General Services Administration as required by section 9(a)(2) of FACA and 41 CFR 102-3.65, the Chairman of the FDIC certifies that she has determined that the establishment of the Committee is in the public interest in connection with the performance of duties imposed on the FDIC by law. The Committee will provide advice and recommendations on initiatives to expand access to banking services by underserved populations. The Committee will review various issues that may include, but not be limited to, basic retail financial services such as check cashing, money orders, remittances, stored value cards, short-term loans, savings accounts, and other services to promote asset accumulation and financial stability. The Committee will function solely as an advisory body, and in compliance with the provisions of the Federal Advisory Committee Act. The Committee will represent a cross-section of interests from the federal government, banking industry, state regulatory authorities, consumer or public advocacy organizations, community-based groups, as well as others impacted by banking-related practices.

Dated at Washington, DC, this 2nd day of November, 2006.
Robert E. Feldman,
Executive Secretary.

[FR Doc. E6-18762 Filed 11-6-06; 8:45 am]

BILLING CODE 6714-07-P